FEDERAL ELECTION COMMISSION

Sunshine Act Meeting

AGENCY: Federal Election Commission.

FEDERAL REGISTER CITATION OF PREVIOUS ANNOUNCEMENT: 77 FR 40355 (July 9, 2012).

DATE AND TIME: Thursday, July 12, 2012 at 10 a.m.

PLACE: 999 E Street NW., Washington, DC (Ninth Floor).

STATUS: This meeting has been canceled.

CHANGES IN THE MEETING: This meeting has been canceled.

* * * * *

PERSON TO CONTACT FOR INFORMATION: Judith Ingram, Press Officer, Telephone: (202) 694-1220.

Shawn Woodhead Werth,
Secretary and Clerk of the Commission.

[FR Doc. 2012-17306 Filed 7-12-12; 11:15 am]

BILLING CODE 6715-01-P